DEPARTMENT OF HEALTH AND HUMAN SERVICES

Administration for Children and Families

Proposed Information Collection Activity; Early Care and Education Leadership Study (ExCELS) Descriptive Study (New Collection)

AGENCY: Office of Planning, Research, and Evaluation, Administration for Children and Families, HHS.

ACTION: Request for public comment.

SUMMARY: The Office of Planning, Research, and Evaluation (OPRE) within the Administration for Children and Families (ACF) at the U.S. Department of Health and Human Services (DHHS) seeks approval to collect information for the Early Care and Education Leadership Study (ExCELS) Descriptive Study.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The ExCELS Descriptive Study is a new information collection to learn about what leadership looks like in center-based early care and education settings serving children whose ages range from birth to age 5, but not yet in kindergarten, and better understand how leadership might improve center quality and outcomes for staff, children, and families. The goals of ExCELS are to (1) develop a short-form measure of early care and education leadership that has strong psychometric properties, and (2) examine empirical support for the associations among key constructs and outcomes in the study's theory of change of early care and education leadership for quality improvement. The study will recruit 120 centers that receive funding from Head Start or the Child Care and Development Fund, ask the primary site leader at the centers to participate in two interviews, and distribute surveys to select center managers and all teaching staff to test hypothesized associations between leadership constructs and outcomes in the study's theory of change.

Respondents: Management and teaching staff from center-based early care and education settings that receive funding from Head Start or the Child Care and Development Fund.

Annual Burden Estimates
Instrument | Number of respondents (total over request period) | Number of responses per respondent (total over request period) | Avg. burden per response (in hours) | Total burden (in hours) | Annual burden (in hours)
Center recruitment call script | 180 | 1 | .33 | 59 | 30
Umbrella organization recruitment approval call script | 113 | 1 | .33 | 37 | 19
Engagement interview guide | 150 | 1 | .33 | 50 | 25
Staffing structure and leadership positions interview guide | 120 | 1 | .50 | 60 | 30
Teaching staff roster | 120 | 1 | .25 | 30 | 15
Center manager survey | 240 | 1 | .42 | 101 | 51
Teaching staff survey | 1,680 | 1 | 1 | 1,680 | 840

Estimated Total Annual Burden Hours: 1,010.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Authorized by the Head Start Act section 640 [42 U.S.C. 9835] and section 649 [42 U.S.C. 9844]; appropriated by the Continuing Appropriations Act of 2019; the Child Care and Development Block Grant Act of 1990 section 658O [42 U.S.C. 9858], which also provides authority to use this discretionary funding for research; appropriated by the Continuing Appropriations Act of 2019; and the Child Care and Development Block Grant (CCDBG) Act of 1990 as amended by the CCDBG Act of 2014 (Pub. L. 113-186).

Mary B. Jones,
ACF/OPRE Certifying Officer.

[FR Doc. 2021-09664 Filed 5-6-21; 8:45 am]

BILLING CODE 4184-22-P